DEPARTMENT OF ENERGY

Federal Energy Regulatory Commission

[Project No. 14597-000]

FFP Project 100, LLC; Notice of Preliminary Permit Application Accepted for Filing and Soliciting Comments, Motions To Intervene, and Competing Applications

On March 3, 2014, FFP Project 100, LLC, filed an application for a preliminary permit, pursuant to section 4(f) of the Federal Power Act (FPA), proposing to study the feasibility of hydropower at the U.S. Army Corps of Engineers' (Corps) C. W. Bill Young Lock and Dam located on the Allegheny River in Allegheny County, Pennsylvania. The sole purpose of a preliminary permit, if issued, is to grant the permit holder priority to file a license application during the permit term. A preliminary permit does not authorize the permit holder to perform any land-disturbing activities or otherwise enter upon lands or waters owned by others without the owners' express permission.

The proposed C. W. Bill Young Lock and Dam Hydroelectric Project would consist of the following: (1) A new 150-foot-wide, 200-foot-long intake channel; (2) a new 200-foot-long by 200-foot-wide concrete powerhouse containing three generating units each rated at 5.0 megawatts (MW) having a total installed capacity of 15 MW; (3) a new 100-foot-wide, 300-foot-long tailrace channel; (4) new concrete retaining walls upstream of the intake and downstream of the new powerhouse; (5) a new 40-foot-long by 40-foot-wide substation; (6) a new 69-kilovolt transmission line approximately 6,129 feet long from the new substation to an existing substation; and (7) a new access road 60 feet in length. The estimated annual generation of the proposed project would be 93 gigawatt-hours.

Applicant Contact: Daniel Lissner, Free Flow Power Corporation, 239 Causeway Street, Suite 300, Boston, MA 02114; phone: (978) 252-7111.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14597-000.

More information about this project, including a copy of the application, can be viewed or printed on the “eLibrary” link of Commission's Web site at http://www.ferc.gov/docs-filing/elibrary.asp. Enter the docket number (P-14597) in the docket number field to access the document. For assistance, contact FERC Online Support.

Dated: March 27, 2014.
Kimberly D. Bose,
Secretary.

[FR Doc. 2014-07503 Filed 4-3-14; 8:45 am]

BILLING CODE 6717-01-P